DEPARTMENT OF TRANSPORTATION

Federal Aviation Administration

14 CFR Part 39

[Docket No. FAA-2010-1206; Directorate Identifier 2009-NM-216-AD; Amendment 39-16868; AD 2011-24-04]

RIN 2120-AA64

Airworthiness Directives; The Boeing Company Airplanes

AGENCY: Federal Aviation Administration (FAA), DOT.

ACTION: Final rule; correction.

SUMMARY: The FAA is correcting an airworthiness directive (AD) that published in the Federal Register. That AD applies to certain Model DC-10-10, DC-10-10F, and MD-10-10F airplanes. The airplane manufacturer name stated in the subject line, product identification section, and paragraph (c) of that AD, is incorrect. Also, the email address provided in paragraphs (i)(1) and (j) of that AD is incorrect. This document corrects those errors. In all other respects, the original document remains the same.

DATES: This final rule is effective February 3, 2012. The effective date for AD 2011-24-04, Amendment 39-16868 (76 FR 73491, November 29, 2011) remains January 3, 2012.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: (800) 647-5527) is Document Management Facility, U.S. Department of Transportation, Docket Operations, M-30, West Building Ground Floor, Room W12-140, 1200 New Jersey Avenue SE., Washington, DC 20590.

FOR FURTHER INFORMATION CONTACT: Nenita Odesa, Aerospace Engineer, Airframe Branch, ANM-120L, FAA, Los Angeles Aircraft Certification Office, 3960 Paramount Boulevard, Lakewood, California 90712-4137; phone: (562) 627-5234; fax: (562) 627-5210; email: nenita.odesa@faa.gov.

SUPPLEMENTARY INFORMATION: Airworthiness Directive 2011-24-04, amendment 39-16868 (76 FR 73491, November 29, 2011), currently requires repetitive inspections for cracking on the lower cap of the rear spar of the left and right wings between stations Xors=417 and the outboard edge of the lower cap splice of the wing rear spar at station Xors=400; temporary and permanent repairs if necessary; and repetitive inspections of repaired areas, and corrective actions if necessary, for certain Model DC-10-10, DC-10-10F, and MD-10-10F airplanes.

As published, the airplane manufacturer name specified in the subject line, product identification section, and paragraph (c) of AD 2011-24-04, Amendment 39-16868 (76 FR 73491, November 29, 2011), is incorrect.

As published, the email address provided in paragraphs (i)(1) and (j) of AD 2011-24-04, Amendment 39-16868 (76 FR 73491, November 29, 2011), is incorrect.

No other part of the preamble or regulatory information has been changed; therefore, only the changed portions of the final rule are being published in the Federal Register.

The effective date of this AD remains January 3, 2012.

Correction of Non-Regulatory Text

In the Federal Register of November 29, 2011, AD 2011-24-04, Amendment 39-16868 (76 FR 73491, November 29, 2011), is corrected as follows:

On page 73491, in the second column, in the subject line, change the subject line to read as follows:

“Airworthiness Directives; The Boeing Company Airplanes.”

Correction of Regulatory Text

§ 39.13 [Corrected]

In the Federal Register of November 29, 2011, on page 73492, in the third column, the product identification line of AD 2011-24-04, Amendment 39-16868 (76 FR 73491, November 29, 2011), is corrected to read as follows:

* * * * *

2011-24-04 The Boeing Company: Amendment 39-16868; Docket No. FAA-2010-1206; Directorate Identifier 2009-NM-216-AD.

* * * * *

In the Federal Register of November 29, 2011, on page 73492, in the third column, paragraph (c) of AD 2011-24-04 Amendment 39-16868 (76 FR 73491, November 29, 2011), is corrected to read as follows:

* * * * *

(c) Applicability

This AD applies to The Boeing Company Model DC-10-10, DC-10-10F, and MD-10-10F airplanes; certificated in any category; as identified in Boeing Alert Service Bulletin DC10-57A156, Revision 2, dated August 23, 2011.

* * * * *

In the Federal Register of November 29, 2011, on page 73493, in the third column, paragraph (i)(1) of AD 2011-24-04 Amendment 39-16868 (76 FR 73491, November 29, 2011), is corrected to read as follows:

* * * * *

(1) The Manager, Los Angeles Aircraft Certification Office, (ACO) FAA, has the authority to approve AMOCs for this AD, if requested using the procedures found in 14 CFR 39.19. Send information to ATTN: Nenita Odesa, Aerospace Engineer, Airframe Branch, ANM-120L, FAA, Los Angeles ACO, 3960 Paramount Boulevard, Lakewood, California 97012-4137; phone: 562-627-5234; fax: 562-627-5210; email: nenita.odesa@faa.gov.

* * * * *

In the Federal Register of November 29, 2011, on page 73494, in the first column, paragraph (j) of AD 2011-24-04 Amendment 39-16868 (76 FR 73491, November 29, 2011), is corrected to read as follows:

* * * * *

(i) Related Information

For more information about this AD, contact Nenita Odesa, Aerospace Engineer, Airframe Branch, ANM-120L, FAA, Los Angeles ACO, 3960 Paramount Boulevard, Lakewood, California 97012-4137; phone: 562-627-5234; fax: 562-627-5210; email: nenita.odesa@faa.gov.

* * * * *

Issued in Renton, Washington, on January 23, 2012.
Kalene C. Yanamura,
Acting Manager, Transport Airplane Directorate, Aircraft Certification Service.

[FR Doc. 2012-2295 Filed 2-2-12; 8:45 am]

BILLING CODE 4910-13-P